DEPARTMENT OF HEALTH AND HUMAN SERVICES

Administration for Children and Families

Submission for OMB Review; Comment Request

Title: Supporting Healthy Marriage (SHM) Demonstration and Evaluation Project—Wave 2 Survey

OMB No.: 0970-0339.

Description: The Administration for Children and Families (ACF), U.S. Department of Health and Human Services, is conducting a demonstration and evaluation called the Supporting Healthy Marriage (SHM) Project. SHM is a test of marriage education demonstration programs in eight sites that will enroll about 800 couples per site, with half assigned to participate in the SHM program and the other half assigned to the control group.

SHM is designed to inform program operators and policymakers of the effectiveness of programs designed to help low-income married couples strengthen and maintain healthy marriages and improve outcomes for adults and children.

This notice of information collection is for two activities. One is a second adult survey and new instruments to obtain information from children and youth about 30 months after study entry. The other is for an extension of the period of approval for the first survey and observation instruments used to obtain information from research participants about 12 months after study entry.

The proposed second wave of information collection will involve:

• An adult survey instrument to assess study participants' longer term marital status and stability, quality of relationships, and a range of other measures.

• A survey of focal children of study participants in both the program and control groups who are over 8 years of age (the youth survey).

• A direct child assessment of focal children of study participants in both the program and control groups who are 8 years of age or younger.

Respondents: Low-income married couples and their children in the SHM evaluation research sample.

Annual Burden Estimate
Instrument | Number of respondents | Number of responses per respondent | Average burden hours per respondent | Estimated annual burden hours
Adult Survey Wave 1 | 4,267 | 1 | .83 | 3,542
Adult-Child Observation Study Wave 1 | 2,448 | 1 | .55 | 1,346
Total Wave 1 Burden |  |  |  | 4,888
Adult Survey Wave 2 | 4,267 | 1 | .83 | 3,542
Youth Survey Wave 2 | 633 | 1 | .50 | 317
Child Observation Study Wave 2 | 1,329 | 1 | .50 | 665
Total Wave 2 Burden |  |  |  | 4,524

Estimated Total Annual Burden Hours: 9,412.

Additional Information: Copies of the proposed collection may be obtained by writing to the Administration for Children and Families, Office of Planning, Research and Evaluation, 370 L'Enfant Promenade, SW., Washington, DC 20447, Attn: OPRE Reports Clearance Officer. All requests should be identified by the title of the information collection. E-mail address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: May 27, 2009.
Seth Chamberlain,
OPRE Reports Clearance Officer.

[FR Doc. E9-12972 Filed 6-4-09; 8:45 am]

BILLING CODE 4184-01-M